NUCLEAR REGULATORY COMMISSION

[Docket No. 50-390]

Tennessee Valley Authority; Biweekly Notice; Applications and Amendments to Facility Operating Licenses Involving No Significant Hazards Considerations; Correction

AGENCY: Nuclear Regulatory Commission.

ACTION: Notice of consideration of issuance of amendment; correction.

SUMMARY: This document corrects a notice appearing in the Federal Register on March 18, 2003 (68 FR 12958), that referenced the incorrect year of Date of Amendment Request. This action is necessary to correct an erroneous date.

FOR FURTHER INFORMATION CONTACT: K. Jabbour, Project Manager, Office of Nuclear Reactor Regulation, U.S. Nuclear Regulatory Commission, Washington, DC 20555-0001; telephone (301) 415-1496, e-mail: knj@nrc.gov.

SUPPLEMENTARY INFORMATION: On page 12958, in the second column, third line up from bottom of page, it is corrected to read from “2003” to “2002.”

Dated in Rockville, Maryland, this 27th day of March 2003.
For the Nuclear Regulatory Commission.
Kahtan N. Jabbour,
Senior Project Manager, Section 2, Project Directorate II, Division of Licensing Project Management, Office of Nuclear Reactor Regulation.

[FR Doc. 03-8112 Filed 4-2-03; 8:45 am]

BILLING CODE 7590-01-P